DEPARTMENT OF AGRICULTURE

Submission for OMB Review; Comment Request

April 23, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725-17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by May 29, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Milk and Milk Products.

OMB Control Number: 0535-0020.

Summary of Collection: The National Agricultural Statistics Service's (NASS) primary function is to prepare and issue current official State and national estimates of crop and livestock production, prices and disposition, and to collect information on related environmental, land values, farm numbers, and other economic factors. Estimates of milk production and manufactured dairy products are an integral part of this program. Milk and dairy statistics are used by the U.S. Department of Agriculture (USDA) to help administer price support programs and by the dairy industry in planning, pricing, and projecting supplies of milk and milk products. The general authority for these data collection activities is granted under U.S. Code Title 7, Section 2204. The legislative actions which affect these surveys are the “Dairy Market Enhancement Act of 2000,” U.S. Code Title 7, Section 1621, and Public Law 106-532 which changed the program from voluntary to mandatory for reporting the moisture content of cheddar cheese plus the price and quantity of cheddar cheese, butter, non-fat dry milk, and dry whey. In April 2012 the authority for collecting Dairy Product Prices was moved from NASS to the Agricultural Marketing Service. NASS will continue to collect milk production and manufactured dairy product data under this OMB approval.

Need and Use of the Information: NASS will collect information quarterly with the Milk Production Survey. The monthly Milk and Milk Products surveys obtain basic agricultural statistics on milk production and manufactured dairy products from farmers and processing plants throughout the nation. Data are gathered for milk production, evaporated and condensed milk, dairy products, manufactured dry milk and manufactured whey products. Estimates of total milk production, number of milk cow, and milk production per cow, are used by the dairy industry in planning, pricing, and projecting supplies of milk and milk products. The mandatory dairy product information reporting requires each manufacturer to report the price, quantity and moisture content of dairy products sold and each entity storing dairy products to report information on the quantity of dairy products stored. Collecting data less frequently would prevent USDA and the agricultural industry from keeping abreast of changes at the State and National level.

Description of Respondents: Farms; Business or other for-profit.

Number of Respondents: 18,850.

Frequency of Responses: Reporting: Quarterly; Monthly; Annually.

Total Burden Hours: 13,081.

Ruth Brown,
Departmental Information Collection Clearance Officer.

[FR Doc. 2018-08813 Filed 4-25-18; 8:45 am]

BILLING CODE 3410-20-P